DEPARTMENT OF LABOR

Employment and Training Administration

[TA-W-51,750]

Federated Merchandising Group, a Part of Federated Department Stores, New York, NY; Notice of Negative Determination Regarding Application for Reconsideration

By application of July 2, 2003, a petitioner requested administrative reconsideration of the Department's negative determination regarding eligibility to apply for Trade Adjustment Assistance (TAA), applicable to workers and former workers of the subject firm. The denial notice was signed on June 10, 2003, and published in the Federal Register on June 19, 2003 (68 FR 36846).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The petition for the workers of Federated Merchandising Group, a part of Federated Department Stores, New York, New York was denied because the “contributed importantly” group eligibility requirement of Section 222(3) of the Trade Act of 1974, as amended, was not met, nor did the subject firm shift production to a foreign source in the relevant period. The investigation revealed that the subject firm did not import products like or directly competitive with paper patterns and sample garments during the relevant period of 2001 to April of 2003, nor did it transfer production abroad.

The petitioner states that the company could not have replaced the manual labor eliminated through petitioning worker layoffs with a computer program, as revealed in the initial investigation. The petitioner concludes that because of the complexity of decision making required in pattern making and the physical demands required to construct sample garments, the company must have outsourced production to an outside (potentially foreign) source in order to offset the labor shortage.

A company official was contacted in regard to petitioner allegations. As a result, it was revealed that, in fact, a computer program had reduced the need for manpower, although a minimal number of workers were retained to input data and create samples. The official also stated unequivocally that production performed by the petitioning worker group had not been outsourced domestically or internationally.

Conclusion

After review of the application and investigative findings, I conclude that there has been no error or misinterpretation of the law or of the facts which would justify reconsideration of the Department of Labor's prior decision. Accordingly, the application is denied.

Signed at Washington, DC this 19th day of August 2003.
Elliott S. Kushner,
Certifying Officer, Division of Trade Adjustment Assistance.

[FR Doc. 03-24698 Filed 9-29-03; 8:45 am]

BILLING CODE 4510-30-P